DEPARTMENT OF ENERGY

Federal Energy Regulatory Commission

Energy 2001, Inc.; Notice of Surrender of Preliminary Permit

November 3, 2003.

Take notice that Energy 2001, Inc., permittee for the proposed Lake Clementine Project, has requested that its preliminary permit be terminated. The permit was issued on May 23, 2001, and would have expired on April 30, 2004. The project would have been located on the North Fork American River in Placer County, California.

The permittee filed the request on September 24, 2003. The preliminary permit for Project No. 11868 shall remain in effect through the thirtieth day after issuance of this notice, unless that day is a Saturday, Sunday, or holiday as described in 18 CFR 385.2007, in which case the permit shall remain in effect through the first business day following that day. New applications involving this project site, to the extent provided for under 18 CFR part 4, may be filed on the next business day.

Magalie R. Salas,
Secretary.

[FR Doc. E3-00184 Filed 11-07-03; 8:45 am]

BILLING CODE 6717-01-P